DEPARTMENT OF LABOR

Employment and Training Administration

[TA-W-65,155]

Bledsoe Construction, Inc., Boise, ID; Notice of Termination of Investigation

Pursuant to Section 221 of the Trade Act of 1974, as amended, an investigation was initiated on February 6, 2009 in response to a petition filed by a company official on behalf of workers of Bledsoe Construction, Inc., Boise, Idaho.

The petitioning group of workers is covered by an active certification, (TA-W-61,811) which expires on September 13, 2009. Consequently, further investigation in this case would serve no purpose, and the investigation has been terminated.

Signed at Washington, DC this 18th day of February 2009.
Richard Church,
Certifying Officer, Division of Trade Adjustment Assistance.

[FR Doc. E9-6295 Filed 3-23-09; 8:45 am]

BILLING CODE 4510-FN-P